DEPARTMENT OF COMMERCE

International Trade Administration

A-570-945

Prestressed Concrete Steel Wire Strand from the People's Republic of China: Postponement of the Preliminary Determination of the Antidumping Duty Investigation

AGENCY: Import Administration, International Trade Administration, Department of Commerce.

EFFECTIVE DATE: November 23, 2009.

FOR FURTHER INFORMATION CONTACT: Alan Ray, AD/CVD Operations, Office 9, Import Administration, International Trade Administration, U.S. Department of Commerce, 14th Street and Constitution Avenue, NW, Washington DC 20230; telephone: (202) 482-5403.

Background

On June 23, 2009, the Department of Commerce (“Department”) published in the Federal Register the initiation of the investigation of prestressed concrete steel wire strand (“PC Strand”) from the People's Republic of China (“PRC”), covering the period of October 1, 2008, through March 31, 2009.¹ On July 28, 2009, the Department selected two companies as mandatory respondents for this investigation: Tianjin Shengte PC Steel Strand Co., (“Tianjin Shengte”) and Silvery Dragon PC Steel Products (“Silvery Dragon”).² On August 14, 2009, the Department selected Jiangxi Xinhua Metal Products Co. (“Xinhua Metal”) as a new mandatory respondent, to replace Silvery Dragon, who had indicated that they would not participate in this investigation.³ Subsequent to that, Silvery Dragon failed to respond to a supplemental questionnaire and the Department selected Wuxi Jinyang Metal Products Co., Ltd. (“WJMP”) as a voluntary respondent.⁴

¹ Prestressed Concrete Steel Wire Strand From the People's Republic of China: Initiation of Antidumping Duty Investigation, 74 FR 29665 (June 23, 2009).

² Memorandum to James C. Doyle, Office 9 Director, through Alex Villanueva, Office 9 Program Manager, from Alexis Polovina, Office 9 Case Analyst, dated July 28, 2009, Antidumping Duty Investigation of Prestressed Concrete Steel Wire Strand from the People's Republic of China (“PRC”): Respondent Selection (“Respondent Selection Memo”).

³ See Memorandum to the File from Alan Ray, Office 9 Case Analyst, through Alex Villanueva, Office 9 Program Manager, dated August 14, 2009.

⁴ See Memorandum to the File from Alan Ray, Office 9 Case Analyst, through Alex Villanueva, Office 9 Program Manager, dated September 11, 2009.

On November 16, 2009, Petitioners⁵ requested a fourteen-day postponement of the preliminary determination pursuant to 733(c)(1)(B)(i) of the Tariff Act of 1930, as amended, (“the Act”). The preliminary determination of this antidumping duty investigation is currently due on December 3, 2009.

⁵ American Spring Wire Corp., Insteel Wire Products Company, and Sumiden Wire Products Corp.

Statutory Time Limits

Pursuant to section 733(c)(1)(B) of the Act, the Department can extend the period for a preliminary determination until not later than 190 days after the date on which the administrative authority initiates an investigation if the Department concludes that the parties concerned are cooperating and determines that:

The case is extraordinarily complicated by the reason of (I) the number and complexity of the transactions to be investigated or adjustments to be considered, (II) the novelty of the issues presented, or (III) the number of firms whose activities must be investigated, and (ii) additional time is necessary to make the preliminary determination.

Extension of Time Limit of Preliminary Determination

Although the respondent⁶ and a separate rates applicant are cooperating, the Department intends to issue additional supplemental questionnaires addressing certain adjustments that impact factors of production and the U.S. sales data that may need to be considered, thereby making it extraordinarily complicated because of the complexity of the adjustments to be considered. Therefore, the Department finds it necessary to extend the current preliminary determination deadline pursuant to section 733(c)(1)(B)(i)(I) of the Act. In addition, as noted above, Petitioners requested a postponement of the preliminary determination on November 16, 2009.

⁶ Xinhua Metal and WJMP.

Therefore, for the reasons identified above, and pursuant to section 733(c)(1)(B)(i)(I) we are postponing the preliminary determination under section 733(c)(1) of the Act by fourteen days from December 3, 2009, to December 17, 2009.

This notice is published pursuant to sections 733(c)(2) of the Act and 19 CFR 351.205(f)(1).

Dated: November 17, 2009.
John M. Andersen,
Acting Deputy Assistant Secretary for Antidumping and Countervailing Duty Operations.

[FR Doc. E9-28049 Filed 11-20-09; 8:45 am]

BILLING CODE 3510-DS-S